DEPARTMENT OF TRANSPORTATION

Federal Aviation Administration

14 CFR Part 39

[Docket No. FAA-2014-0058; Directorate Identifier 2013-NM-116-AD; Amendment 39-17977; AD 2014-20-04]

RIN 2120-AA64

Airworthiness Directives; Airbus Airplanes

AGENCY: Federal Aviation Administration (FAA), Department of Transportation (DOT).

ACTION: Final rule.

SUMMARY: We are superseding Airworthiness Directive (AD) 94-12-03 for certain Airbus Model A320 series airplanes. AD 94-12-03 required modification of the belly fairing structure. This new AD requires repetitive inspections for cracking of the four titanium angles between the belly fairing and the keel beam side panel, an inspection for cracking of the open holes if any cracking is found in the titanium angles, and repair or replacement if necessary; this new AD also expands the applicability of AD 94-12-03. This AD was prompted by reports of cracks at the lower riveting of the four titanium angles that connect the belly fairing to the keel beam side panels on both sides of the fuselage. We are issuing this AD to detect and correct cracking of the titanium angles that connect the belly fairing to the keel beam side panels on both sides of the fuselage, which could affect the structural integrity of the airplane.

DATES: This AD becomes effective November 7, 2014.

The Director of the Federal Register approved the incorporation by reference of certain publications listed in this AD as of November 7, 2014.

The Director of the Federal Register approved the incorporation by reference of certain other publications listed in this AD as of January 10, 1994 (59 FR 64875, December 10, 1993).

ADDRESSES: You may examine the AD docket on the Internet at http://www.regulations.gov/#!docketDetail;D=FAA-2014-0058; or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 94-12-03, Amendment 39-8930 (59 FR 28763, June 3, 1994). AD 94-12-03 applied to Model A320 series airplanes having serial numbers (S/Ns) 003 through 092 inclusive. These serial numbers apply to Model A320-111, -211, and -231 series airplanes. The NPRM published in the Federal Register on February 26, 2014 (79 FR 10707).

The European Aviation Safety Agency (EASA), which is the Technical Agent for the Member States of the European Community, has issued EASA Airworthiness Directive 2013-0122, dated June 5, 2013 (referred to after this as the Mandatory Continuing Airworthiness Information, or “the MCAI”), to correct an unsafe condition for the specified products. The MCAI states:

During the fatigue test campaign of the A320 family type design, cracks have been found at the lower riveting of the four titanium angles which connect the belly fairing to the keel beam side panels between frames FR40 and FR42, on both sides of the fuselage.

This condition, if not detected and corrected, could affect the structural integrity of the aeroplane.

In 1992, [Direction Générale de l'Aviation Civile] DGAC France issued AD 92-201-030 (http://ad.easa.europa.eu/blob/19922010tb_superseded.pdf/AD_F-1992-201-030_1) (which corresponds to FAA AD 94-12-03, Amendment 39-8930 (59 FR 28763, June 3, 1994)) to require reinforcement of the belly fairing structure, which addressed part of the unsafe condition.

For the reason described above, this [EASA] AD retains the requirements of DGAC France AD 92-201-030, which is superseded, and requires repetitive detailed inspections [for cracking] of the affected titanium angles and, depending on findings, repair or replacement of parts.

As an option to extend the repetitive inspection interval, after the first detailed inspection is accomplished and on condition of no crack findings, this AD allows operators to remove the four titanium angles, perform a rototest for cracking on the open holes and, provided no cracks are found on the open holes, install new titanium angles, followed by post-modification detailed inspections of the new titanium angles.

For any titanium angle crack findings, this AD requires removing any cracked angle, performing a rototest for cracking on the open holes and, provided no cracks are found, installing a new titanium angle, followed by detailed inspections of the new titanium angles.

For any open hole cracking found during any rototest required by this AD, this AD requires repairing any cracking using a method approved by the Manager, International Branch, ANM-116, Transport Airplane Directorate, FAA; or the European Aviation Safety Agency (EASA); or Airbus's EASA Design Organization Approval (DOA).

This AD expands the applicability of AD 94-12-03, Amendment 39-8930 (59 FR 28763, June 3, 1994), to include all Airbus Model A318, A319, A320, and A321 series airplanes.

You may examine the MCAI in the AD docket on the Internet at http://www.regulations.gov/#!documentDetail;D=FAA-2014-0058-0002.

Comments

We gave the public the opportunity to participate in developing this AD. The following presents the comments received on the NPRM (79 FR 10707, February 26, 2014) and the FAA's response to each comment.

Request To Extend Proposed Compliance Time for Inspection of Titanium Angles

Delta Airlines (DAL) requested that we extend the compliance time for the inspection of the titanium angles specified in paragraph (h)(3) of the proposed AD (79 FR 10707, February 26, 2014). DAL stated that extending this compliance time from 3,000 flight cycles or 6,000 flight hours after the effective date of this AD, whichever occurs first, to 5,000 flight cycles or 10,000 flight hours, whichever occurs first, would match the repetitive interval for the detailed inspection on those airplanes that have not had the modification accomplished, and it would give DAL and other operators the opportunity to schedule these inspections in a hangar environment.

We do not agree with the commenter's request to extend the compliance time specified in paragraph (h)(3) of this AD. DAL has not provided data to substantiate that extending this compliance time would provide an acceptable level of safety. This compliance time was developed after analyzing risk to the fleet, availability of in-service information and feasibility of performing inspection. We consider the overall risk to the fleet, including the severity of the failure and the likelihood of the failure's occurrence, to calculate appropriate compliance times. However, under the provisions of paragraph (o)(1) of this AD, we will consider requests for approval of an extension of the compliance time if sufficient data are submitted to substantiate that the extension would provide an acceptable level of safety. We have not changed this final rule in this regard.

Request To Allow Special Flight Permit When Cracking Is Found

DAL requested that we add a provision in the NPRM (79 FR 10707, February 26, 2014) to allow operators to ferry airplanes with cracking found during the inspection specified in paragraph (h) of this AD. DAL stated that a ferry flight would allow an airplane to be moved to a more suitable location for maintenance in the event damage is found. DAL also stated that the ferry flight is necessary due to the extensive level of access and disassembly.

We agree with the intent behind the commenter's request, but find it unnecessary to include a special flight provision in this AD. Special flight permits are currently allowed under Section 39.23 of the Federal Aviation Regulations (14 CFR 39.23), unless specifically prohibited or limited by an AD. No change is necessary to this final rule in this regard.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 10707, February 26, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

No comments were provided to the NPRM (79 FR 10707, February 26, 2014) about these proposed changes. However, a comment was provided for an NPRM having Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM having Directorate Identifier 2012-NM-101-AD (78 FR 78285, December 26, 2013) pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate.

We also have decided not to include a generic reference to either the “delegated agent” or “DAH with State of Design Authority design organization approval,” but instead we have provided the specific delegation approval granted by the State of Design Authority for the DAH throughout this AD.

Conclusion

We reviewed the available data, including the comments received, and determined that air safety and the public interest require adopting this final rule with the changes described previously and minor editorial changes. We have determined that these minor changes:

• Are consistent with the intent that was proposed in the NPRM (79 FR 10707, February 26, 2014) for correcting the unsafe condition; and

• Do not add any additional burden upon the public than was already proposed in the NPRM (79 FR 10707, February 26, 2014).

Costs of Compliance

We estimate that this AD affects 851 airplanes of U.S. registry.

The actions that were required by AD 94-12-03, Amendment 39-8930 (59 FR 28763, June 3, 1994), and retained in this AD take about 288 work-hours per product, at an average labor rate of $85 per work-hour. Required parts cost about $1,045 per product. Based on these figures, the estimated cost of the actions that were required by AD 94-12-03 is $25,525 per product.

We also estimate that it will take about 7 work-hours per product to comply with the basic new requirements of this AD. The average labor rate is $85 per work-hour. Based on these figures, we estimate the cost of this AD on U.S. operators to be $506,345, or $595 per product.

We have received no definitive data that would enable us to provide cost estimates for the on-condition and optional actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0058; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 94-12-03, Amendment 39-8930 (59 FR 28763, June 3, 1994), and adding the following new AD:

2014-20-04 Airbus: Amendment 39-17977. Docket No. FAA-2014-0058; Directorate Identifier 2013-NM-116-AD.

(a) Effective Date

This AD becomes effective November 7, 2014

(b) Affected ADs

This AD replaces AD 94-12-03, Amendment 39-8930 (59 FR 28763, June 3, 1994).

(c) Applicability

This AD applies to the Airbus airplanes specified in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-111, -211, -212, -214, -231, -232, and -233 airplanes.

(4) Airbus Model A321-111, -112, -131, -211, -212, -213, -231, and -232 airplanes.

(d) Subject

Air Transport Association (ATA) of America Code 53, Fuselage.

(e) Reason

This AD was prompted by reports of cracks at the lower riveting of the four titanium angles that connect the belly fairing to the keel beam side panels on both sides of the fuselage. We are issuing this AD to detect and correct cracking of the titanium angles that connect the belly fairing to the keel beam side panels on both sides of the fuselage, which could affect the structural integrity of the airplane.

(f) Compliance

Comply with this AD within the compliance times specified, unless already done.

(g) Retained Modification

This paragraph restates the requirements of paragraph (a) of AD 94-12-03, Amendment 39-8930 (59 FR 28763, June 3, 1994), with new service information. For Model A320-111, -211, and -231 series airplanes, manufacturer serial numbers 003 through 092 inclusive: Prior to the accumulation of 12,000 total landings on the airplane, or within 300 days after January 10, 1994 (the effective date of AD 93-24-11, Amendment 39-8760 (58 FR 64875, December 10, 1993)), whichever occurs later, modify the belly fairing structure, in accordance with the Accomplishment Instructions of an Airbus service bulletin specified in paragraph (g)(1), (g)(2), or (g)(3) of this AD. As of the effective date of this AD, use only the Airbus service bulletin specified in paragraph (g)(3) of this AD.

(1) Airbus Industrie Service Bulletin A320-53-1014, dated June 25, 1992.

(2) Airbus Industrie Service Bulletin A320-53-1014, Revision 1, dated May 26, 1993.

(3) Airbus Service Bulletin A320-53-1014, Revision 2, dated September 1, 1994.

(h) New Requirement of This AD: Repetitive Inspection

At the latest of the compliance times specified in paragraphs (h)(1), (h)(2), and (h)(3) of this AD: Do a detailed inspection for cracking of the four titanium angles between the belly fairing and the keel beam side panel, in accordance with the Accomplishment Instructions of Airbus Service Bulletin A320-53-1259, dated November 6, 2012.

(1) Before the accumulation of 30,000 total flight cycles or 60,000 total flight hours, whichever occurs first after first flight of the airplane.

(2) Within 30,000 flight cycles or 60,000 flight hours, whichever occurs first after modification of the airplane as required by paragraph (g) of this AD, or after installation of new titanium angles, provided that, prior to installation, a rototest for cracking on the open holes has been accomplished with no crack findings, in accordance with the Accomplishment Instructions of Airbus Service Bulletin A320-53-1259, dated November 6, 2012.

(3) Within 3,000 flight cycles or 6,000 flight hours, whichever occurs first after the effective date of this AD.

(i) New Requirement of This AD: Post-Inspection Actions for No Crack Findings

If, during any inspection required by paragraph (h) of this AD, there is no crack finding: Accomplish the actions specified in either paragraph (i)(1) or (i)(2) of this AD.

(1) Repeat the inspection required by paragraph (h) of this AD at intervals not to exceed 5,000 flight cycles or 10,000 flight hours, whichever occurs first

(2) Before further flight after the inspection required by paragraph (h) of this AD, remove all inspected titanium angles, accomplish a rototest for cracking on the open holes and, provided no cracks are found, install new titanium angles, in accordance with the Accomplishment Instructions of Airbus Service Bulletin A320-53-1259, dated November 6, 2012.

(j) New Requirement of This AD: Post-Inspection Actions for Any Crack Findings

If, during any inspection required by paragraph (h) of this AD, there is any crack finding: Before further flight, remove the affected titanium angle(s), accomplish a rototest for cracking on the open holes, and, provided no cracks are found, install new titanium angles, in accordance with the Accomplishment Instructions of Airbus Service Bulletin A320-53-1259, dated November 6, 2012.

(k) New Requirement of This AD: Post-Installation Repetitive Inspections

For airplanes on which new titanium angles were installed as specified in paragraph (i)(2) or (j) of this AD: Within 30,000 flight cycles or 60,000 flight hours, whichever occurs first after the installation, accomplish a detailed inspection for cracking of the four titanium angles between the belly fairing and the keel beam side panel, in accordance with the Accomplishment Instructions of Airbus Service Bulletin A320-53-1259, dated November 6, 2012. Repeat the inspection thereafter at intervals not to exceed 5,000 flight cycles or 10,000 flight hours, whichever occurs first.

(l) New Requirement of This AD: Post Inspection Actions for Any Crack Findings During Post-Installation Inspections

If, during any inspection as required by paragraph (k) of this AD, there is any crack finding: Before further flight, remove the affected titanium angles, accomplish a rototest for cracking on the open holes, and, provided no cracks are found, install new titanium angles, in accordance with the Accomplishment Instructions of Airbus Service Bulletin A320-53-1259, dated November 6, 2012.

(m) New Requirement of This AD: Corrective Action for Rototest Crack Finding

If, during any rototest as required by paragraph (i), (j), or (l) of this AD, any crack is found: Before further flight, repair using a method approved by the Manager, International Branch, ANM-116, Transport Airplane Directorate, FAA; or the European Aviation Safety Agency (EASA); or Airbus's EASA Design Organization Approval (DOA).

(n) New Provision of This AD: No Termination Action for Repetitive Inspections

Repair or replacement of parts as specified in this AD does not terminate the repetitive inspections required by this AD.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(p) Related Information

Refer to Mandatory Continuing Airworthiness Information (MCAI) European Aviation Safety Agency, Airworthiness Directive 2013-0122, dated June 5, 2013, for related information. You may examine the MCAI in the AD docket on the Internet at http://www.regulations.gov/#!documentDetail;D=FAA-2014-0058-0002.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 7, 2014.

(i) Airbus Service Bulletin A320-53-1014, Revision 2, dated September 1, 1994, including supplementary page 7A. Pages 1-3, 15, 19, 20, and 25 of this document are identified as Revision 2, dated September 1, 1994; pages 4-8, 10, 12, 16-18, and 21-24 are identified as Revision 1, dated May 26, 1993; and pages 9, 11, 13, 14, and 26 are identified as the original, dated June 25, 1992.

(ii) Airbus Service Bulletin A320-53-1259, dated November 6, 2012.

(4) The following service information was approved for IBR on January 10, 1994 (59 FR 64875, December 10, 1993).

(i) Airbus Industrie Service Bulletin A320-53-1014, dated June 25, 1992.

(ii) Airbus Industrie Service Bulletin A320-53-1014, Revision 1, dated May 26, 1993.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on September 19, 2014.
Jeffrey E. Duven,
Manager, Transport Airplane Directorate, Aircraft Certification Service.

[FR Doc. 2014-23139 Filed 10-2-14; 8:45 am]

BILLING CODE 4910-13-P